POSTAL REGULATORY COMMISSION

[Docket No. IM2025-1; Order No. 8773]

Section 407 Proceeding

AGENCY: Postal Regulatory Commission.

ACTION: Notice.

SUMMARY: The Commission is establishing a docket to solicit comments for the purpose of developing its views on whether certain proposals for the upcoming UPU Congress are consistent with the standards and criteria for modern rate regulation established by the Commission under applicable sections of the United States Code. This notice informs the public of the filing, invites public comment, and takes other administrative steps.

DATES: Comments are due: June 6, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Initial Commission Action

III. Ordering Paragraphs

I. Introduction

The 28th Universal Postal Union (UPU) Congress will take place September 7-20, 2025, in the United Arab Emirates. Before the United States concludes any treaty, convention, or amendment that establishes a Market Dominant rate or classification, the Secretary of State must request that the Commission provide views on whether such treaties, conventions, or amendments are consistent with the standards and criteria for modern rate regulation established by the Commission under 39 U.S.C. 3622. 39 U.S.C. 407(c)(1). On March 31, 2025, the Department of State requested the Commission's views on relevant proposals that will be presented at the 28th UPU Congress.¹

¹ Letter from A. McCoy Pitt, Senior Bureau Official, U.S. Department of State, Bureau of International Organization Affairs, March 31, 2025 (State's Request).

Pursuant to section 407(c)(1) and 39 CFR part 3025, the Commission establishes Docket No. IM2025-1 for the purpose of developing its views on whether certain proposals for the upcoming UPU Congress are consistent with the standards and criteria for modern rate regulation established by the Commission under 39 U.S.C. 3622.

II. Initial Commission Action

Establishment of docket. Part 3025 of title 39 of the Code of Federal Regulations codifies procedures related to the development of the Commission's section 407 views.² Pursuant to rule 3025.103(c), the Commission establishes this docket to solicit public comments on “the specific relevant proposals posted by the Commission and the general principles that should guide the development of Commission views as well as any other materials posted in the applicable docket . . .” 39 CFR 3025.103(c).

² See Docket No. RM2015-14, Order Adopting Final Rules on Procedures Related to Commission Views, December 30, 2015 (Order No. 2960). See also 81 FR 869 (January 8, 2016). The rules relating to views were codified in part 3017 and took effect on February 8, 2016. The Commission later revised these rules to enhance transparency and accountability within the Commission view process and improve public accessibility to related documents. Docket No. RM2020-3, Order Adopting Final Rules Related to Commission Views, February 24, 2020, at 1-2 (Order No. 5439). These revised rules went into effect on April 21, 2020. Order No. 5439 at 5. Subsequently, the Commission issued a final rulemaking in a separate proceeding that, among other things, renumbered several parts in title 39 of the Code of Federal Regulations. Docket No. RM2019-13, Order Reorganizing Commission Regulations and Amending Rules of Practice, January 16, 2020 (Order No. 5407). As a result of Order No. 5407, part 3017 was redesignated as part 3025 and the rules were renumbered on April 20, 2020. Id.; Order No. 5439 at 4-5.

Comments. Rule 3025.104(a) provides that the Commission “shall establish a deadline for comments upon establishment of the docket that is consistent with timely submission of Commission views to the Secretary of State.” 39 CFR 3025.104(a). The 28th Universal Postal Union Congress will take place September 7-20, 2025, in the United Arab Emirates. The Department of State requests that the Commission submit its views by August 5, 2025. State's Request at 1. To ensure timely submission of the Commission's views to the Department of State, the Commission establishes June 6, 2025 as the deadline for submission of comments on the consistency of the specific relevant proposals posted by the Commission that are subject to subchapter I of chapter 36 with the standards and criteria established by the Commission under 39 U.S.C. 3622, and the general principles that should guide the development of Commission views as well as any other materials posted in this docket.

Using the Commission's Filing Online System. Except as provided in 39 CFR 3010.120(a),³ all material filed with the Commission shall be submitted in electronic format using the Filing Online system, which is available over the internet through the Commission's website. The Commission's website accepts filings during the Commission's regular business hours, which are from 8:00 a.m. through 4:30 p.m. Eastern Time, except for Saturdays, Sundays, and Federal holidays. A guide to using the Filing Online system, including how to create an account, is available at https://www.prc.gov/sites/default/files/PRCeFilingUserGuideG3032025.pdf. If you have questions about how to use the Filing Online system, please contact the dockets clerk by email at dockets@prc.gov or telephone at (202) 789-6800, option 2. Please be advised that the dockets clerk can only answer procedural questions but may not provide legal advice or recommendations.

³ The Commission's Filing Online system allows account holders to file materials that contain non-public information. See Postal Regulatory Commission eDockets User Guide, at 40, available at https://www.prc.gov/sites/default/files/PRCeFilingUserGuideG3032025.pdf. The filer must adhere to the requirements of 39 CFR 3011 subpart B, including the requirement to concomitantly provide an application for non-public treatment, a redacted (public) version of the non-public materials, and an unredacted (sealed) version of the non-public materials. See 39 CFR 3011.200(a).

Public Representative. Pursuant to 39 CFR 3010.101(q)(3), Matthew Ocksrider is appointed to serve as an officer of the Commission (Public Representative) to represent the interests of the general public in this proceeding.

Availability of documents. Pursuant to rule 3025.103(b), the Commission will post relevant proposals and other materials related to the development of Commission views in this docket.

Federal Register publication. Rule 3025.103(d) requires publication in the Federal Register of the notice establishing a docket authorized under part 3025. 39 CFR 3025.103(d). Pursuant to this rule, the Commission directs the Secretary of the Commission to arrange for prompt publication of this Order in the Federal Register.

III. Ordering Paragraphs

It is ordered:

1. The Commission establishes Docket No. IM2025-1 for purposes related to the development of section 407(c)(1) views and invites public comments related to this effort, as described in the body of this Order.

2. Comments are due June 6, 2025.

3. Pursuant to 39 CFR 3010.101(q)(3), Matthew Ocksrider is appointed to serve as an officer of the Commission (Public Representative) to represent the interests of the general public in this docket.

4. The Secretary is directed to post documents in this docket when the Commission determines such documents are relevant.

5. The Secretary shall arrange for publication of this Order in the Federal Register.

By the Commission.
Jennie L. Jbara,
Primary Certifying Official.

[FR Doc. 2025-06119 Filed 4-9-25; 8:45 am]

BILLING CODE 7710-FW-P